DEPARTMENT OF AGRICULTURE

Forest Service

Plumas and Lassen National Forests; California, Administrative Study 4202-02-01

AGENCY: Forest Service, USDA.

ACTION: Cancellation of notice of intent.

SUMMARY: The Plumas and Lassen National Forests, in conjunction with the Pacific Southwest Research Station, hereby cancel the notice of intent to prepare an Environmental Impact Statement (EIS) for an administrative study, as published on December 4, 2002 (64 FR 72136-72138). The notice is cancelled because of the need to configure a different study proposal that accommodates the Forests' implementation of the HFQLG legislation and the National Fire Plan while simultaneously addressing concerns with the scientific design of the originally-proposed study. Based on issues and questions raised during scoping,the proposed study was determined to be unacceptable regarding these factors.

FOR FURTHER INFORMATION CONTACT: Lee Anne Taylor, Public affairs Officer, Plumas National Forest, P.O. Box 11500, Quincy, CA 95971, telephone (530) 283-7850.

SUPPLEMENTARY INFORMATION:

Dated: April 21, 2003.
James M. Peña,
Forest Supervisor.

[FR Doc. 03-10228 Filed 4-24-03; 8:45 am]

BILLING CODE 3410-11-M